OFFICE OF THE UNITED STATES TRADE REPRESENTATIVE

Technical Corrections to the Harmonized Tariff Schedule of the United States

AGENCY: Office of the United States Trade Representative.

ACTION: Notice.

SUMMARY: The United States Trade Representative (USTR) is making technical corrections to the Harmonized Tariff Schedule of the United States (HTS) as set forth in the annex to this notice, pursuant to authority delegated to the USTR in Presidential Proclamation 6969 of January 27, 1997 (62 FR 4415). These modifications correct several inadvertent errors and omissions in Presidential Proclamation 7515 of December 18, 2001 (66 FR 66,549), so that the intended tariff treatment is provided.

EFFECTIVE DATE: January 10, 2002.

FOR FURTHER INFORMATION CONTACT: Paul Moore, Director for Market Access, Office of the United States Trade Representative, (202) 395-5097, or David W. Oliver, Associate General Counsel, (202) 395-3581.

SUPPLEMENTARY INFORMATION: Every five years the World Customs Organization (WCO), to which the United States belongs, reviews and updates the tariff nomenclature annexed to the International Convention on the Harmonized Commodity and Coding System (HS Convention) that member countries apply. Proclamation 7515 modifies the HTS, which incorporates the HS Convention tariff nomenclature, to conform it to the most recent changes to the HS Convention tariff nomenclature that the WCO has adopted. The annex to this notice makes technical corrections to the HTS to remedy several technical errors and omissions introduced through the annexes to Proclamation 7515, so that the intended tariff treatment is provided. In particular, the annex to this notice corrects (1) errors regarding the eligibility of products classified in certain subheadings for duty-free treatment under the Generalized System of Preferences program, (2) the omission of a tariff subheading that implements a change in the HS Convention annex, and (3) an omission in the description of a tariff subheading that implements a change in the HS Convention annex.

Proclamation 6969 authorized the USTR to exercise the authority provided to the President under section 604 of the Trade Act of 1974 (19 U.S.C. 2483) to embody rectifications, technical or conforming changes, or similar modifications in the HTS. Under the authority vested in the USTR by Proclamation 6969, the rectifications, technical and conforming changes, and similar modifications set forth in the annex to this notice shall be embodied in the HTS with respect to goods entered, or withdrawn from warehouse for consumption, on or after January 10, 2002.

Robert B. Zoellick,
United States Trade Representative.

Annex

The HTS is modified as set forth in this annex, with bracketed matter included to assist in the understanding of the modifications. The following provisions supersede matter now in the HTS. The new subheading and superior text thereto being inserted by this notice are set forth in columnar format, and material in such columns is inserted in the columns of the HTS designated “Heading/Subheading”, “Article Description”, “Rates of Duty 1 General”, “Rates of Duty 1 Special”, and “Rates of Duty 2”, respectively.

Effective with respect to articles entered, or withdrawn from warehouse for consumption, on or after January 10, 2002, the HTS is modified as follows:

(1). General note 4(d) is modified by:

(a). deleting the following subheadings and the country set out opposite such subheading:

1403.00.94 India—4107.19.40 India

4106.21.10 India; Pakistan—4107.99.40 India

(b). deleting the country set opposite the following subheadings:

4103.10.30 India—4107.99.60 India

4106.21.90 India—4113.10.30 India

4106.22.00 India—4113.10.60 India

4107.19.60 India—

(2). The article description of subheading 0305.20 is modified to read:

“Livers and roes of fish, dried, smoked, salted or in brine:”

(3). The following subheading is inserted in numerical sequence:

:[Residual products of the chemical or allied...] : : :

“3825.30.00: Clinical waste.............: Free:: Free”

(4). For subheadings 1403.00.94 and 4106.21.10, the Rates of Duty 1-Special subcolumn is modified by deleting the symbol “A*” and inserting an “A” in lieu thereof.

[FR Doc. 02-948 Filed 1-14-02; 8:45 am]

BILLING CODE 3190-01-P